ENVIRONMENTAL PROTECTION AGENCY

[OPP-2005-0222; FRL-7730-1]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by February 13, 2006, orders will be issued canceling these registrations. The Agency will consider withdrawal requests postmarked no later than February 16, 2006.

FOR FURTHER INFORMATION CONTACT: John Jamula, Information Technology and Resource Management Division (7502C), Office of Pesticide Programs, Environmental Protection Agency, 1200 Pennsylvania Ave., NW., Washington, DC 20460-0001; telephone number: (703) 305-6426; e-mail address:jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2005-0222. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel 234 pesticide products registered under section 3 or 24(c) of FIFRA. These registrations are listed in sequence by registration number (or company number and 24(c) number) in Table 1 of this unit:

Table 1.—Registrations With Pending Requests for Cancellation
Registration no. | Product Name | Chemical Name
000004-00123 | Mosquito Beater | Butoxypolypropylene glycol
|  | Naphthalene
000004-00403 | Bonide Rabbit Scat | Ziram
000070-00126 | Kill-Ko Thiodan 4 Dust | Endosulfan
000070-00142 | Kill-Ko Thiodan Emulsifiable Insecticide | Endosulfan
000070-00166 | Kill-Ko 5% Sevin Vegetable Dust for Garden Insects | Carbaryl
000070-00244 | Rigo 5% Sevin Bait | Carbaryl
000070-00285 | Rigo's Best Sevin Brand Carbaryl Insecticide | Carbaryl
000192-00070 | Dexol Sevin 5% Garden Dust | Carbaryl
000192-00074 | Dexol Systemic Granules Insecticide | Disulfoton
000192-00119 | Systemic House Plant Insecticide | Disulfoton
000192-00126 | Dexol Systemic Granules Insect Control | Disulfoton
000192-00164 | Dexol Systemic Rose & Flower Care 10-10-10 | Disulfoton
000192-00174 | Dexol Sevin Liquid Insect Killer | Carbaryl
000228-00249 | Riverdale Tomato & Potato Dust or Spray | Sulfuric acid, copper(2+) salt, basic
|  | Carbaryl
000228-00251 | Riverdale 5% Sevin Dust Insecticide | Carbaryl
000239-01513 | Ortho Sevin 10 Dust | Carbaryl
000241-00321 | Scepter O.T. Herbicide | Benzoic acid, 5-(2-chloro-4-(trifluoromethyl)phenoxy)-2-nitro-, sodium salt
|  | 3-Quinolinecarboxylic acid, 2-(4,5-dihydro-4-methyl-4-(1-methylethyl)-5-oxo-1H-imidazol-2-yl
000264-00312 | Sevin Carbaryl 10% Bait Insecticide | Carbaryl
000264-00314 | Sevin Brand 50w Carbaryl Insecticide | Carbaryl
000264-00320 | Sevin 5% Bait Carbaryl Insecticide | Carbaryl
000264-00321 | Sevimol Carbaryl Insecticide | Carbaryl
000264-00422 | Sevin Brand 4-Oil ULV Carbaryl Insecticide | Carbaryl
000264-00427 | Sevin Brand 4-Oil 41A Carbaryl Insecticide | Carbaryl
000264-00676 | Tattoo C | Chlorothalonil
|  | Propamocarb hydrochloride
000264-00945 | Gustafson Flo-Pro IMZ Flowable | Imazalil
000264 CO-02-0009 | Gustafson Flo-Pro IMZ Flowable | Imazalil
000264 ID-98-0014 | Gustafson Flo-Pro IMZ Flowable | Imazalil
000264 OR-04-0019 | Admire 2 Flowable | Imidacloprid
000264 OR-85-0020 | Sencor DF 75% Dry Flowable Herbicide | Metribuzin
000264 WA-85-0036 | Di-Syston 15% Granular Systemic Insecticide | Disulfoton
000270-00344 | Adams Flea and Tick Dust II | Carbaryl
|  | Piperonyl butoxide
|  | Pyrethrins
|  | Silica gel
000270-00361 | Mycodex Pet Shampoo with Carbaryl | Carbaryl
000279 CA-86-0035 | Thiodan 3 E.C. | Endosulfan
000279 CA-90-0031 | Thiodan 3 E.C. | Endosulfan
000279 MT-03-0002 | Thiodan 3 EC Insecticide | Endosulfan
000279 MT-03-0003 | Thionex 50W Insecticide | Endosulfan
000279 NC-00-0004 | Thiodan 3 EC Insecticide | Endosulfan
000352 TX-94-0008 | Dupont Velpar Herbicide | Hexazinone
000432-01335 | Tempo 2 E | Cyfluthrin
000432 AZ-04-0004 | Topchoice | Fipronil
000524-00520 | Mon 78095 Herbicide | Glyphosate-isopropylammonium
|  | Oxyfluorfen
000538-00146 | Scotts Pro Grow Ornamental Herbicide I | Oxadiazon
000538-00147 | Scotts Pro Grow Ornamental Herbicide III | Oxadiazon
000538-00253 | All Purpose Plant Disease Control | Thiophanate-methyl
000655 HI-90-0007 | Prentox Diazinon AG500 | Diazinon
000707 OR-02-0002 | Dithane DF Agricultural Fungicide | Gas cartRidge (as a device for burrowing animal control)
|  | Mancozeb
000769-00559 | Royal Guard 5% Sevin | Carbaryl
000769-00573 | Sevin Spray | Carbaryl
000769-00612 | R & M Garden and Kennel Dust 10% | Carbaryl
000769-00613 | R & M Flea and Tick Powder #5 | Carbaryl
|  | Piperonyl butoxide
|  | Pyrethrins
000769-00614 | R & M Flea and Tick Powder #2 | Carbaryl
|  | Piperonyl butoxide
|  | Pyrethrins
000769-00642 | Smcp Flea Scat | Carbaryl
000769-00647 | Smcp Sevin 5% Dust | Carbaryl
000769-00648 | Smcp Sevin Insecticide Spray | Carbaryl
000769-00665 | Smcp Sevin 10% Dust | Carbaryl
000769-00674 | Smcp Industrial Roach & Ant Spray | Propoxur
000769-00689 | Smcp Diazinon AG500 | Diazinon
000769-00728 | Sevin Brand Carbaryl Insecticide 5% Turf Insecticide | Carbaryl
000769-00729 | Smcp Sevin 5% Bait Crop Insecticide | Carbaryl
000769-00730 | SMCP Sevin 5% Bait Pelletized Insecticide | Carbaryl
000769-00761 | B-Gone Industrial & Household Residual Insecticide | Propoxur
000769-00792 | Superior B Gone | Propoxur
000769-00817 | Propoxur 2% Bait Insecticide | Propoxur
000769-00834 | Miller Sevin 50% Wettable Powder | Carbaryl
000769-00835 | Miller 1.75% Sevin Dust | Carbaryl
000769-00841 | Miller Diazinon Ag Insecticide | Diazinon
000769-00865 | Liquid 2 Sevin Brand Carbaryl Insecticide Home & Garden | Carbaryl
000769-00868 | Pratt 50% Sevin Carbaryl Wettable Powder | Carbaryl
000769-00883 | L2 Sevin Brand Carbaryl Insecticide Home and Garden | Carbaryl
000769-00906 | Science 5% Sevin Dust | Carbaryl
000769-00908 | Rose Flower & Shrub Systemic Insecticide Granules | Disulfoton
000769-00917 | Science Household Insect Bomb | Propoxur
000769-00919 | Science Sevin Liquid | Carbaryl
000769-00920 | Science Sevin 50W | Carbaryl
000769-00929 | Wasp + Hornet Jet Spray | Propoxur
|  | 4,7-Methano-1H-isoindole-1,3(2H)-dione, 2-(2-ethylhexyl)-3a,4,7,7a-tetrahydro-
|  | Piperonyl butoxide
|  | Pyrethrins
000769-00935 | Wasp and Hornet I | Propoxur
|  | Piperonyl butoxide
|  | Pyrethrins
000769-00954 | Diazinon 50WP | Diazinon
000769-00970 | 3.5% Sevin Brand Carbaryl Insecticide Insect Granules | Carbaryl
000769-00977 | Carbaryl Insecticide Spray RTU | Carbaryl
000802-00351 | Miller's Slug, Snail and Insect Killer Bait | Metaldehyde
|  | Carbaryl
000829-00131 | Sa-50 Brand Sevin 1.75% Dust | Carbaryl
000829-00182 | Sa-50 Brand Bait Pellets Kill Land Snails & Slugs | Metaldehyde
|  | Carbaryl
000829-00262 | SA-50 Brand Diazinon AG500 Insecticide | Diazinon
000869-00118 | Green Light Sevin 5% Dust | Carbaryl
000869-00119 | Green Light Bug & Snail Bait | Metaldehyde
|  | Carbaryl
000869-00180 | Green Light 10% Sevin Dust | Carbaryl
000909-00083 | Cooke Slug-N-Snail Granules | Metaldehyde
|  | Carbaryl
001327-00035 | Fulex Thiodan Insecticidal Smoke | Endosulfan
001386-00338 | Thiodan Emulsifiable Concentrate | Endosulfan
001386-00599 | Unico Diazinon 4 EC (ag) | Diazinon
001677-00156 | Lubri-Klenz Plus | N-(coco alkyl)trimethylenediamine
|  | Alkyl* dimethyl benzyl ammonium chloride *(50%C14, 40%C12, 10%C16)
001812-00411 | Du Pont Linuron Flake Technical | Linuron
001812 OR-01-0030 | Direx 80DF | Diuron
001812 OR-02-0019 | Equus DF | Chlorothalonil
001812 WA-02-0009 | Equus DF | Chlorothalonil
001812 WA-99-0034 | Direx 80DF | Diuron
002935-00193 | Sevin 5 Dust | Carbaryl
002935-00320 | Sevin 10 Dust | Carbaryl
002935-00440 | Nu-Zone 10ME | Imazalil
004581 ID-00-0012 | Penncap-M Microencapsulated Insecticide | Methyl parathion
004581 WA-00-0012 | Penncap-M Microencapsulated Insecticide | Methyl parathion
004581 WA-98-0029 | Desicate II | Endothall, mono(N,N,-dimethyl alkyl amine) salt
004758-00007 | Holiday Kennel Dust | Carbaryl
004758-00032 | Holiday Flea & Tick Stop for Dogs and Cats | Butoxypolypropylene glycol
|  | Carbaryl
|  | Piperonyl butoxide
|  | Pyrethrins
004758-00034 | Holiday Tick Stop | Butoxypolypropylene glycol
|  | Carbaryl
|  | Piperonyl butoxide
|  | Pyrethrins
004822-00312 | Bolt Inspection Size Insect Fogger | 4,7-Methano-1H-isoindole-1,3(2H)-dione, 2-(2-ethylhexyl)-3a,4,7,7a-tetrahydro-
|  | Piperonyl butoxide
|  | Pyrethrins
005389-00012 | Lancer Liquid Sanitizer | Phosphoric acid
|  | Benzenesulfonic acid, C10-16-alkyl derivs.
005481-00133 | Duragon 25% Wettable Powder Systemic Insecticide | Dimethoate
005481-00278 | Thiodan 50% Wettable Powder Insecticide | Endosulfan
005481-00296 | Thiodan Miscible Insecticide | Endosulfan
005481-00316 | Sevin 5 Thiodan 1.5 Dust Insecticide | Carbaryl
|  | Endosulfan
005481 AZ-99-0001 | Dibrom 8 Emulsive | Naled
005481 TX-90-0010 | PCNB 2-E Liquid Emulsifiable Concentrate | PCNB
005481 TX-92-0024 | PCNB 75% Wettable Powder Soil Fungicide | PCNB
005887-00061 | Black Leaf Systemic Insecticide Plus Food 8-12-4 | Disulfoton
005887-00065 | Black Leaf Giant Roach Traps Kills Roaches | Propoxur
005887-00076 | Black Leaf Roach and Ant Killer | Propoxur
|  | 4,7-Methano-1H-isoindole-1,3(2H)-dione, 2-(2-ethylhexyl)-3a,4,7,7a-tetrahydro-
|  | Piperonyl butoxide
|  | Pyrethrins
005887-00086 | Sevin 50% Wettable Powder | Carbaryl
005887-00102 | Black Leaf Liquid Flowable 2 Lb. Sevin | Carbaryl
005887-00170 | Black Leaf Snailicide | Metaldehyde
|  | Carbaryl
005905-00169 | Helena Brand 10% Sevin Granules | Carbaryl
005905-00180 | Helena Brand 15% Sevin Granules | Carbaryl
006836-00092 | Hyamine 2389 - 50% | Methyldodecylbenzyl trimethyl ammonium chloride 80% and methyldodecylxylylene bis(trimethyl
006973-00010 | Soilserv Sevin Metaldehyde Bait | Metaldehyde
|  | Carbaryl
007173 OR-84-0048 | Rozol Paraffinized Pellets | Chlorophacinone
007401-00004 | Ferti Lome Rose Food containing Systemic Insecticide | Disulfoton
007401-00026 | Ferti-Lome Systemic Insecticide Granules | Disulfoton
007401-00213 | Hi-Yield Diazinon Ag 500 | Diazinon
007401-00235 | Ferti-Lome Azalea Evergreen Food | Disulfoton
007401-00316 | Hi-Yield Thiodan Garden Dust | Endosulfan
007401-00317 | Ferti-Lome Garden Bug Killer | Endosulfan
007401-00323 | Hi-Yield Di-Syston Systemic Insecticide Granules | Disulfoton
007501 OK-92-0003 | Tops 90 | Thiophanate-methyl
007501 OR-90-0027 | Vitavax Flowable Fungicide | Carboxin
007969-00077 | Galaxy Herbicide | 3-Isopropyl-1H-2,1,3-benzothiadiazin-4(3H)-one-2,2-dioxide, sodium salt
|  | Benzoic acid, 5-(2-chloro-4-(trifluoromethyl)phenoxy)-2-nitro-, sodium salt
007969-00080 | Blazer 2S Herbicide | Benzoic acid, 5-(2-chloro-4-(trifluoromethyl)phenoxy)-2-nitro-, sodium salt
007969-00146 | Guardsman Herbicide | Atrazine
|  | Dimethenamid
007969-00168 | Conclude Ultra Herbicide | 3-Isopropyl-1H-2,1,3-benzothiadiazin-4(3H)-one-2,2-dioxide, sodium salt
|  | Benzoic acid, 5-(2-chloro-4-(trifluoromethyl)phenoxy)-2-nitro-, sodium salt
|  | Sethoxydim
007969-00179 | Conclude Xact | 3-Isopropyl-1H-2,1,3-benzothiadiazin-4(3H)-one-2,2-dioxide, sodium salt
|  | Benzoic acid, 5-(2-chloro-4-(trifluoromethyl)phenoxy)-2-nitro-, sodium salt
|  | Sethoxydim
007969 OR-03-0011 | Cabrio EG Fungicide | Pyraclostrobin
007969 WA-03-0021 | Cabrio EG Fungicide | Pyraclostrobin
008278-00003 | Metro Tested All Purpose Bug Bait | Metaldehyde
|  | Carbaryl
008660-00021 | Sta-Green Carbaryl Lawn Insect Control | Carbaryl
008660-00028 | Vertagreen Lawn Food 10-5-5 with Sevin Insecticide | Carbaryl
008660-00060 | 50% Sevin Wettable Powder | Carbaryl
008660-00070 | Vertagreen Carbaryl Liquid Concentrate | Carbaryl
008660-00072 | Vertagreen 5% Sevin Dust | Carbaryl
008660-00111 | Grasshopper and Cutworm Bait 5% Sevin | Carbaryl
008660-00133 | Carbaryl 11.7 Liquid Flowable | Carbaryl
008660-00188 | Insecticide Granules Formula C | Carbaryl
008660-00234 | Vigoro 5% Sevin Dust | Carbaryl
008660-00241 | Vigoro Sevin Brand Carbaryl Insecticide 10 & Dust | Carbaryl
009198-00211 | Fungo 50 Systemic Turf Fungicide | Thiophanate-methyl
009444-00098 | Purge Wasp &Hornet Jet Freeze | Carbaryl
|  | Piperonyl butoxide
|  | Pyrethrins
009444-00190 | Wasp & Hornet Jet Freeze I | Carbaryl
|  | Piperonyl butoxide
|  | Pyrethrins
009779-00074 | Riverside 5% Sevin | Carbaryl
009779-00081 | Riverside 10% Sevin | Carbaryl
009779-00260 | Riverside Carbaryl 4l | Carbaryl
009779-00294 | Carbaryl 90 DF | Carbaryl
009779-00330 | Asgrow Thirethrin 2 45045 | Piperonyl butoxide
|  | Pyrethrins
|  | Endosulfan
010163-00098 | Gowan Endosulfan 50W | Endosulfan
010163-00100 | Gowan Diazinon 4E | Diazinon
010163-00104 | Gowan Diazinon 14G | Diazinon
010163-00110 | Gowan Endosulfan 3EC | Endosulfan
010163-00116 | Gowan Diazinon 5G | Diazinon
010163-00130 | Gowan Endosulfan 50 WSB | Endosulfan
010163-00138 | Gowan Azinphos M 35 WP | Azinphos-Methyl
010163-00139 | Gowan Azinphos-M 35WSB | Azinphos-Methyl
010163-00149 | Gibberellic Acid 4% | Gibberellic acid
010163-00180 | Gowan Azinphos 50 PVA | Azinphos-Methyl
010163-00223 | Gowan Endosulfan Technical | Endosulfan
010163-00234 | Dicofol Dust | Dicofol
010163-00247 | Flutolanil Technical | Flutolanil
010163-00261 | Gowan Dicofol 3-Sulfur 60 Dust | Dicofol
|  | Sulfur
010163-00263 | Gowan Diazinon AG Technical | Diazinon
010163 AZ-93-0012 | Gowan Endosulfan 3 EC | Endosulfan
010163 CA-96-0001 | Gowan Diazinon 4E | Diazinon
010163 ID-02-0002 | Gowan Diazinon 4E | Diazinon
010163 ID-97-0006 | Gowan Endosulfan 3EC | Endosulfan
010163 NV-04-0002 | Gowan Diazinon 4E | Diazinon
010163 NV-93-0004 | Gowan Endosulfan 3EC | Endosulfan
010163 OR-02-0004 | Gowan Diazinon 4E | Diazinon
010163 OR-94-0053 | Metasystox-R Spray Concentrate | Oxydemeton-methyl
010163 OR-99-0051 | Gowan Endosulfan 3EC | Endosulfan
010163 WA-02-0001 | Gowan Diazinon 4E | Diazinon
010163 WA-98-0015 | Gowan Endosulfan 3EC | Endosulfan
010163 WA-99-0025 | Gowan Endosulfan 3EC | Endosulfan
010163 WA-99-0032 | Gowan Endosulfan 3EC | Endosulfan
010404-00052 | Lesco Pre-M 60 DG Herbicide | Pendimethalin
010404-00074 | Lesco Pre-M 60 WP | Pendimethalin
010404-00097 | Superstar Plus Mini Fertilizer | Oxadiazon
|  | Dithiopyr
011474-00070 | Sys-Sect | Disulfoton
011656-00020 | Coastox Meta Carbaryl 2-4 Snail Pellets | Metaldehyde
|  | Carbaryl
011715-00020 | Speer Bird Spray | 4,7-Methano-1H-isoindole-1,3(2H)-dione, 2-(2-ethylhexyl)-3a,4,7,7a-tetrahydro-
|  | Piperonyl butoxide
|  | Propylene glycol
|  | Pyrethrins
|  | Triethylene glycol
011715-00207 | Sudbury Gypsy Moth Spray | Carbaryl
011715-00209 | Japanese Beetle Spray | Carbaryl
011715-00210 | Lure'em II Fly Attractant | (Z)-9-Tricosene
011715-00214 | Attractant Fly Stick | (Z)-9-Tricosene
011715-00229 | Sevin Liquid Concentrate Insect Spray | Carbaryl
011715-00250 | Elite Extra Strength Flea & Tick Powder II | Carbaryl
|  | Piperonyl butoxide
|  | Pyrethrins
|  | Silica gel
011715-00255 | Elite Flea and Tick Powder #5 | Carbaryl
|  | Piperonyl butoxide
|  | Pyrethrins
011715-00292 | Security Brand Big 10 Dust | Carbaryl
011715-00294 | Security Brand 5% Sevin Garden Dust | Carbaryl
011715-00346 | Security Brand Sevin Spray | Carbaryl
019713-00006 | Drexel Atrazine 80 Herbicide | Atrazine
019713-00093 | Drexel Ziram 4L | Ziram
019713-00131 | Drexel Carbaryl 4 Oil | Carbaryl
019713-00145 | Drexel D-264 Plus Captan Seed Protectant | Diazinon
|  | Captan
019713-00270 | Ida Inc. Ziram 4L | Ziram
019713-00322 | Seis-Tres 6-3 | Methyl parathion
|  | Parathion
019713-00323 | Drexel Parathion 8 | Parathion
019713-00324 | Ida Seis-Tres 6-3 | Methyl parathion
|  | Parathion
019713-00325 | Drexel Parathion 4 EC. | Parathion
019713-00494 | Drexel Carbaryl 5% Bait | Carbaryl
019713 ID-98-0002 | Drexel Endosulfan 3EC | Endosulfan
019713 OR-97-0004 | Drexel Dimethoate 4EC | Dimethoate
019713 WA-96-0017 | Drexel Dimethoate 2.67 | Dimethoate
019713 WA-96-0031 | Drexel Dimethoate 2.67 | Dimethoate
019713 WA-97-0005 | Drexel Dimethoate 2.67 | Dimethoate
019713 WA-97-0006 | Drexel Dimethoate 4EC | Dimethoate
019713 WA-98-0009 | Drexel Diuron 4L Herbicide | Diuron
019713 WA-98-0017 | Drexel Endosulfan 3EC | Endosulfan
028293-00006 | Unicorn Flea & Tick Powder for Cats & Dogs | Carbaryl
028293-00008 | Unicorn Sevin Dog Dip | Carbaryl
028293-00010 | Unicorn Flea & Tick Powder #4 | Carbaryl
|  | Piperonyl butoxide
|  | Pyrethrins
028293-00018 | Unicorn Flea & Tick Powder #2 | Carbaryl
028293-00222 | Unicorn Carbaryl Insecticide | Carbaryl
028293-00233 | Unicorn 6.3% Granular Carbaryl Insecticide | Carbaryl
028293-00235 | Unicorn Carbaryl Insecticide 5% Bait | Carbaryl
028293-00237 | Unicorn Sevin Brand Carbaryl Insecticide 5% Dust | Carbaryl
028293-00289 | Unicorn IGR Pet Spray | Bioallethrin
|  | 2,5-Pyridinedicarboxylic acid, dipropyl ester
|  | 4,7-Methano-1H-isoindole-1,3(2H)-dione, 2-(2-ethylhexyl)-3a,4,7,7a-tetrahydro-
|  | Piperonyl butoxide
|  | Permethrin
|  | Pyriproxyfen
034704-00023 | Clean Crop Sevin 5 Bait | Carbaryl
034704-00041 | Clean Crop Diazinon Ag500 Insecticide | Diazinon
034704-00230 | Diazinon G-14 | Diazinon
034704-00231 | Diazinon 500-Ag | Diazinon
034704-00350 | Sevin 50 Wettable Powder | Carbaryl
034704-00373 | Sevin 5 Granular | Carbaryl
034704-00435 | Clean Crop Diazinon 50wp Insecticide | Diazinon
034704-00471 | Ziram 76W | Ziram
034704-00483 | Carbaryl Bait | Carbaryl
034704-00493 | Diazinon 5 Granules | Diazinon
034704-00619 | Carbaryl 80 WDG | Carbaryl
034704-00818 | Methyl Parathion 5E | Methyl parathion
034704-00819 | Methyl Parathion 4E | Methyl parathion
034704 HI-92-0006 | Diazinon 500-AG | Diazinon
034704 HI-96-0009 | Sevin 50 Wettable Powder | Carbaryl
034704 ID-02-0029 | Diazinon 500-AG | Diazinon
034704 MA-97-0001 | Diazinon G-14 | Diazinon
034704 NJ-97-0001 | Diazinon G-14 | Diazinon
034704 OR-92-0019 | Clean Crop Diuron 80 WDG Weed Killer | Diuron
034704 OR-94-0029 | Clean Crop Diuron 80 WDG Weed Killer | Diuron
034704 OR-97-0002 | Diazinon G-14 | Diazinon
034704 VT-92-0001 | Diazinon 500-AG | Diazinon
034704 WA-02-0007 | Diazinon 500-AG | Diazinon
034704 WA-97-0001 | Diazinon G-14 | Diazinon
034704 WA-98-0011 | Simazine 90 Water Dispersible Granular Herbicide | Simazine
034704 WI-01-0001 | Diazinon G-14 | Diazinon
034704 WI-98-0003 | Diazinon G-14 | Diazinon
042057-00039 | Morgro Pest Meal | Metaldehyde
|  | Carbaryl
042057-00051 | Morgro Rose Food Plus Systemic | Disulfoton
046515-00036 | K Gro Sevin Brand Liquid | Carbaryl
047000-00106 | Hopkins Sevin Carbaryl Bait | Carbaryl
047000-00109 | Prozap Garden Dust | Carbaryl
047000-00116 | Sevin Brand 10% Carbaryl Insecticide Granules | Carbaryl
047000-00117 | Sevin Brand 5% Carbaryl Insecticide Bait | Carbaryl
047000-00118 | Sevin Brand 10% Carbaryl Insecticide Beetle Bait Granul | Carbaryl
047000-00119 | Prozap 5% Carbaryl Insecticide Bait Granules | Carbaryl
048273-00011 | Atrazine 4l Herbicide | Atrazine
049585-00004 | Sevin Brand Carbaryl Insecticide Garden Dust | Carbaryl
049585-00024 | Sevin Plus Multi-Purpose Garden Dust | Carbaryl
|  | Piperonyl butoxide
|  | Pyrethrins
|  | Sulfur
049585-00026 | K Gro Sevin Brand Carbaryl Insecticide 10 Dust Formula | Carbaryl
049784-00003 | Ritter's Tick & Flea Powder for Dogs & Cats | Carbaryl
051036-00013 | Carbaryl 10% Dust | Carbaryl
051036-00048 | Carbaryl 5% Dust | Carbaryl
051036-00061 | Carbait 5 | Carbaryl
051036-00066 | Carbaryl 4 Flowable | Carbaryl
051036-00071 | Diazinon AG 500 | Diazinon
051036-00108 | Diazinon 50W | Diazinon
051036-00123 | Carbaryl 2 Flowable | Carbaryl
051036-00151 | Carbaryl Sprayable | Carbaryl
051036-00158 | Micro Flo Atrazine 4FL | Atrazine
051036-00185 | Slam | Carbaryl
051036-00204 | Adios AG | Indole
|  | Cinnamaldehyde
|  | 1,2,4-Trimethoxybenzene
|  | Carbaryl
051036-00210 | Adios RTU | Carbaryl
051036-00227 | Adios Beetle Bait | Indole
|  | Cinnamaldehyde
|  | 1,2,4-Trimethoxybenzene
|  | Carbaryl
051036-00286 | Carbait 10% | Carbaryl
051036-00321 | Methyl Parathion | Methyl parathion
051036 DE-02-0001 | Diazinon 50W | Diazinon
051036 ID-02-0007 | Diazinon 50W | Diazinon
051036 TX-01-0012 | Diazinon 50W | Diazinon
053883-00041 | Martin's 10% Sevin Dust | Carbaryl
053883-00042 | Martin's 5% Sevin Dust | Carbaryl
053883-00043 | M Martin's Lice Killer contains Sevin | Carbaryl
053883-00108 | Methoprene 0.2% G | Methoprene
053883-00109 | Methoprene 2.1% Briquet | Methoprene
053883-00110 | Methoprene 1.5 G | Methoprene
053883-00112 | Methoprene 20% Concentrate | Benzene, 1-(8-methoxy-4,8-dimethyl(nonyl)-4-(1-methylethyl)-
053883-00155 | T-Methyl 85 WDG | Thiophanate-methyl
053883-00156 | T-Methyl 4.5 | Thiophanate-methyl
053883-00176 | Sta-Green 10-0-30 Fertilizer + Ronstar | Oxadiazon
053883-00177 | Vertagreen Fertilizer with Ronstar | Oxadiazon
056984 CA-80-0157 | Diaznon 2 Dust | Diazinon
059639-00052 | Valent Sevin Bait (pelleted) | Carbaryl
059639-00060 | Sevin Bait (fine) | Carbaryl
059639 OR-97-0007 | Orthene 75 WSP (insecticide In A Water Soluble Bag) | Acephate
059639 SD-02-0001 | Valor WDG Herbicide | Flumioxazin
059639 SD-03-0003 | Gangster V Herbicide | Flumioxazin
059639 WA-96-0025 | Orthene 75 WSP (insecticide In A Water Soluble Bag) | Acephate
059905-00008 | Flea X-1 | Boron sodium oxide (B8Na2O13), tetrahydrate (12280-03-4)
060255 CA-96-0016 | Diazinon AG 500 Insecticide | Diazinon
062719-00324 | Glypro | Glyphosate-isopropylammonium
062719 CA-94-0001 | Lorsban 50W Insecticide In Water Soluble Packets | Chlorpyrifos
062719 OR-00-0028 | Goal 2XL Herbicide | Oxyfluorfen
062719 OR-01-0017 | Nu-Flow M Seed Treatment Fungicide | Myclobutanil
062719 OR-83-0013 | Kerb 50-W Herbicide (in Water Soluble Pouches) | Propyzamide
062719 OR-90-0004 | Kerb 50W Herbicide | Propyzamide
062719 OR-95-0030 | Eagle | Gas cartRidge (as a device for burrowing animal control)
062719 OR-95-0031 | Treflan H.F.P | Trifluralin
062719 OR-96-0036 | Goal (r) 2XL Herbicide | Oxyfluorfen
062719 WA-03-0005 | Lorsban 50W Insecticide In Water Soluble Packets | Chlorpyrifos
062719 WA-96-0033 | Goal (r) 2XL Herbicide | Oxyfluorfen
062719 WA-97-0013 | Goal (r) 2XL Herbicide | Oxyfluorfen
062719 WA-99-0035 | Goal (r) 2XL Herbicide | Oxyfluorfen
066222-00061 | Thiodan Wsb Insecticide | Endosulfan
066222 WI-03-0002 | Thiodan 3 EC Insecticide | Endosulfan
067517-00031 | General Carbaryl-5 Insecticide | Carbaryl
067760 ID-99-0025 | Cheminova Methyl Parathion 4 EC | Methyl parathion
067760 OR-99-0058 | Cheminova Methyl Parathion 4 EC | Methyl parathion
067760 WA-00-0004 | Cheminova Methyl Parathion 4 EC | Methyl parathion
071368-00027 | Nufarm Koril + Atrazine | Bromoxynil octanoate
|  | Atrazine
071711 CA-04-0016 | Courier Insect Growth Regulator | Buprofezin
071949-00010 | Sevin 5% Dust | Carbaryl
071949-00011 | Sevin 10 Dust | Carbaryl
071949-00012 | Ford's 5% Sevin Bait | Carbaryl
073049-00153 | Bioresmethrin Technical | Bioresmethrin
073049-00238 | Wasp & Hornet Concentrate #1 | Carbaryl
|  | Piperonyl butoxide
|  | Pyrethrins
073049-00266 | Niagara Tetramethrin Nia 18739 Pressurized Insect Killer | Tetramethrin
|  | Bioresmethrin
073049-00267 | Tetramethrin 25.00 Nia 18739 6.00 Wb Concentrate | Tetramethrin
|  | Bioresmethrin
073049-00268 | Tetramethrin 2.50 Nia 18739 0.60 Dwb Concentrate | Tetramethrin
|  | Bioresmethrin
073049-00292 | Bioresmethrin Technical II | Bioresmethrin

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2.—Registrants Requesting Voluntary Cancellation
EPA Company no. | Company Name and Address
000004 | Bonide Products,Inc., 6301 Sutliff Rd., Oriska, NY 13424.
000070 | Value Gardens Supply, LlC, d/b/a Garden Value Supply, PO Box 585, Saint Jose, MO 64502.
000192 | Value Gardens Supply, LlC, d/b/a Value Gardens Supply, Po Box 585, Saint Jose, MO 64502.
000228 | Nufarm Americas Inc., 1333 Burr Ridge Parkway, Suite 125A, Burr Rid, IL 605270866.
000239 | The Ortho Business Group, d/b/a The Scotts Co., Po Box 190, Marysvil, OH 43040.
000241 | BASF Corp., PO Box 13528, Research Triangle Pa, NC 277093528.
000264 | Bayer Cropscience LP, 2 T.W. Alexander Drive, Research Triangle Pa, NC 27709.
000270 | Farnam Companies Inc., PO Box 34820, Phoen, AZ 85067.
000279 | FMC Corp. Agricultural Products Group, 1735 Market St., Philadelph, PA 19103.
000352 | E.I. Du Pont De Nemours & Co., Inc., Dupont Crop Protection (S300/427), PO Box 30, Newa, DE 197140030.
000432 | Bayer Environmental Science, A Business Group of Bayer Cropscience LP, 2 T. W. Alexander Drive, Research Triangle Pa, NC 27709.
000524 | Monsanto Co, Agent For: Monsanto Co., 1300 I Street, Nw, Suite 450 E., Washingt, DC 20005.
000538 | Scotts Co., The, 14111 Scottslawn Rd, Marysvil, OH 43041.
000655 | Prentiss Inc., C.B. 2000, Floral Pa, NY 110012000.
000707 | Rohm & Haas Co, Attn: James V. Hagan, 100 Independence Mall W., Philadelph, PA 191062399.
000769 | Value Gardens Supply, LlC, d/b/a Value Garden Supply, Po Box 585, Saint Jose, MO 64502.
000802 | Central Garden & Pet d/b/a Lilly Miller Brands/Excel Garden, Prod/cooke Lab Prod/chas H Lilly Co/garden Grow Co, Po Box 2289, Clackam, OR 97015.
000829 | Southern Agricultural Insecticides, Inc., PO Box 218, Palmet, FL 34220.
000869 | Green Light Co., PO Box 17985, San Anton, TX 78217.
000909 | Central Garden & Pet d/b/a Lilly Miller Brands/Excel Garden, Prod/cooke Lab Prod/chas H Lilly Co/Garden Grow Co, Po Box 2289, Clackam, OR 97015.
001327 | Fuller System, Inc., PO Box 3053, Wobu, MA 01888.
001386 | Universal Cooperatives Inc., 1300 Corporate Center Curve, Eag, MN 55121.
001677 | Ecolab Inc., 370 Wabasha St. Ecolab Center, St Pa, MN 55102.
001812 | Dupont Crop Protection/Stine-Haskell Research Center, Agent For: Griffin L.l.C., PO Box 30, Newa, DE 197140030.
002935 | Wilbur Ellis Co., PO Box 1286, Fres, CA 93715.
004581 | Cerexagri, Inc., 630 Freedom Business Center, Suite 402, King Of Pruss, PA 19406.
004758 | Pet Chemicals, PO Box 18993, Memph, TN 381810993.
004822 | S.C. Johnson & Son Inc., 1525 Howe Street, Raci, WI 53403.
005389 | Ecolab Inc., Agent For: Kay Chemical Co., 370 N. Wabasha Street, St. Pa, MN 55102.
005481 | Amvac Chemical Corp., Attn: Jon C. Wood, 4695 Macarthur Ct., Suite 1250, Newport Bea, CA 926601706.
005887 | Value Gardens Supply, LlC, d/b/a Value Garden Supply, PO Box 585, Saint Jose, MO 64502.
005905 | Helena Chemical Co, 225 Schilling Blvd., Suite 300, Colliervil, TN 38017.
006836 | Lonza Inc., 90 Boroline Rd., Allenda, NJ 07401.
006973 | Soilserv Inc., PO Box 1286, Fres, CA 93715.
007173 | Liphatech, Inc., 3600 W. Elm Street, Milwauk, WI 53209.
007401 | Brazos Associates, Inc., Agent For: Voluntary Purchasing Group Inc., 1806 Auburn Drive, Carrollt, TX 750071451.
007501 | Gustafson LlC, PO Box 660065, Dall, TX 75266.
007969 | BASF Corp., Agricultural Products, PO Box 13528, Research Triangle Pa, NC 277093528.
008278 | Robinson Associates, Agent For: Metro Biological Laboratory, 583 Canyon Rd, Redwood Ci, CA 94062.
008660 | Sylorr Plant Corp., PO Box 142642, St. Lou, MO 631140642.
009198 | The Andersons Lawn Fertilizer Division, Inc., dba/ Free Flow Fertilizer, Po Box 119, Maum, OH 43537.
009444 | Waterbury Companies Inc., PO Box 640, Independen, LA 70443.
009779 | D. O'Shaughnessy Consulting Inc., Agent For: Agriliance, LlC, 21 Birch Parkway, Spar, NJ 07871.
010163 | Gowan Co, PO Box 5569, Yu, AZ 853665569.
010404 | Lesco Inc., 1301 E. 9th Street, Suite 1300, Clevela, OH 441141849.
011474 | Sungro Chemicals, Inc., PO Box 24632, Los Angel, CA 90024.
011656 | Western Farm Service, Inc., Attn: Dunya Haproff-Fondse, PO Box 1168, Fres, CA 937151168.
011715 | Speer Products Inc., 4242 B.F. Goodrich Blvd., Memph, TN 381810993.
019713 | Drexel Chemical Co, PO Box 13327, Memph, TN 381130327.
028293 | Unicorn Laboratories, 12385 Automobile Blvd., Clearwat, FL 33762.
034704 | Loveland Products, Inc., PO Box 1286, Greel, CO 80632.
042057 | Morgro Chemical Co, 145 W. Central Ave, Salt Lake Ci, UT 84107.
046515 | Celex, Division of United Industries Corp., PO Box 142642, St Lou, MO 631140642.
047000 | Steven E. Rogosheske, Agent For: Chem-Tech Ltd., 1479 W Pond Rd, Eag, MN 55122.
048273 | Nufarm Co., Agent For: Marman USA Inc., 1333 Burr Ridge Parkway #125A, Burr Rid, IL 60527.
049585 | Alljack, Division of United Industries Corp., PO Box 142642, St Lou, MO 631140642.
049784 | Research Laboratories, Inc., PO Box 801854, Houst, TX 772801854.
051036 | Micro-Flo Co. LLC, 530 Oak Ct. Drive, Memph, TN 38117.
053883 | Control Solutions, Inc., 5903 Genoa-Red Bluff, Pasade, TX 775071041.
056984 | California Dept of Health Services, DCDC/Vector-Borne Disease Sect/MS 7307, PO Box 997413, Sacramen, CA 958997413.
059639 | Valent U.S.A. Corp., PO Box 8025, Walnut Cre, CA 94596.
059905 | Perma-Chink Systems Inc., 17635 N.E. 67th Ct., Redmo, WA 98052.
060255 | California Dept of Food & Agriculture, Office of Pesticide Consultation & Analysis, 1220 N Street, Sacramen, CA 95814.
062719 | Dow Agrosciences LLC, 9330 Zionsville Rd 308/2e225, Indianapol, IN 462681054.
066222 | Makhteshim-Agan of North America Inc., 4515 Falls of Neuse Rd Ste 300, Ralei, NC 27609.
067517 | PM Resources Inc., 13001 St. Charles Rock Rd, Bridget, MO 63044.
067760 | Cheminova Inc., 1700 Route 23 - Ste 300, Way, NJ 07470.
071368 | Nufarm, Inc., 1333 Burr Ridge Parkway, Suite 125A, Burr Rid, IL 60527.
071711 | Nichino America, Inc., 4550 New Linden Hill Rd., Suite 501, Wilmingt, DE 19808.
071949 | OMS Investments, Inc., c/o Delaware Corporate Management, 1105 N. Market Street, Wilmingt, DE 19899.
073049 | Valent Biosciences Corp., 870 Technology Way, Suite 100, Libertyvil, IL 600486316.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before February 13, 2006. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: August 3, 2005.
Arnold E. Layne,
Director, Information Technology and Resource Management Division, Office of Pesticide Programs.

[FR Doc. 05-16194 Filed 8-16-05; 8:45 am]

BILLING CODE 6560-50-S